DEPARTMENT OF AGRICULTURE

Submission for OMB Review; Comment Request

August 23, 2019.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 27, 2019 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: 7 CFR Part 235—State Administrative Expense (SAE) Funds.

OMB Control Number: 0584-0067.

Summary of Collection: The authority for this collection is provided for in Sections 7 and 10 of the Child Nutrition Act of 1966, 80 Stat. 888, 889, as amended (42 U.S.C. 1776, 1779). As required, the Food and Nutrition Service (FNS) issued regulations in 7 CFR part 235, which prescribes the methods for making payments of funds to State agencies to use for administrative expenses incurred in supervising and giving technical assistance in connection with activities undertaken by them under the National School Lunch Program (NSLP) (7 CFR part 210), the Special Milk Program (SMP) (7 CFR part 215), the School Breakfast Program (SBP) (7 CFR part 220), the Child and Adult Care Food Program (CACFP) (7 CFR part 226), and the Food Distribution Program (FDP) (7 CFR part 250). The State agencies also maintain current accounting records of State administrative expense funds which identify fund authorizations, obligations, unobligated balances, assets, liabilities, outlays, and income.

Need and Use of the Information: Under this mandatory information collection, FNS collects the information necessary for making payments for funds to State agencies to use for the administrative expenses incurred in supervising and giving technical assistance in connection with the activities undertaken by the State agency under NSLP, SMP, SBP, CACFP, and the FDP. The Federal regulations in 7 CFR part 235 SAE Funds require the collection of information associated with this collection. This information is collected through written agreements that cover the operation of the Program during a specified period; State Administrative Expense plans that outline funding and activities; State Administrative Expense Funds Reallocation Reports that describe the use of SAE funds; and annual reports containing information on School Food Authorities (SFAs) under agreement with the State agency to participate in the National School Lunch or Commodity School Programs.

Description of Respondents: State, Local, or Tribal Government.

Number of Respondents: 83.

Frequency of Responses: Recordkeeping; Reporting: Quarterly and Annually.

Total Burden Hours: 6,551.

Food and Nutrition Service

Title: 7 CFR part 225, Summer Food Service Program.

OMB Control Number: 0584-0280.

Summary of Collection: Section 13 of the Richard B. Russell National School Lunch Act (42 U.S.C. 1758), as amended, authorizes the Summer Food Service Program (SFSP). The SFSP is directed toward children in low-income areas when school is not in session and is operated locally by approved sponsors. Local sponsors may include public or private non-profit school food authorities (SFAs), public or private non-profit residential summer camps, units of local, municipal, county or State governments, or other private non-profit organizations that develop a special summer or other school vacation program and provide meal service similar to that available to children during the school year under the National School Lunch Program and the School Breakfast Program. Under the program, a sponsor receives reimbursement for serving nutritious, well-balanced meals to eligible children at the food service sites.

Need and Use of the Information: Response to this information collection is required if respondents wish to obtain or retain a benefit. FNS uses the information to determine an organization's eligibility and to monitor program performance for compliance and reimbursement purposes.

Description of Respondents: Individuals or households; Business or other for-profit; Not-for-profit institutions; and State, Local, or Tribal Government.

Number of Respondents: 64,275.

Frequency of Responses: Recordkeeping; Reporting; Third Party Disclosure (Public Disclosure): On occasion; Monthly; Annually.

Total Burden Hours: 348,884.

Food and Nutrition Service

Title: WIC Participant and Program Characteristics Study 2020 and 2022.

OMB Control Number: 0584-0609.

Summary of Collection: This data collection effort for the Special Supplemental Nutrition Program for Women, Infants, and Children (WIC) Participant and Program Characteristics Study is authorized by 7 CFR 246.25(b)(3) (2011). This legislation requires State and local agencies to provide information required by the U.S. Department of Agriculture's (USDA) Food and Nutrition Service (FNS) for the creation of biennial reports on WIC participant and program characteristics (PC). This information includes, at a minimum, income and nutritional risk characteristics of participants, information on breastfeeding incidence and duration, and participation in the program by category (pregnant, breastfeeding, and postpartum women; infants; and children) within each priority level (as established in 7 CFR 246.7 (e)(4)) and by migrant farmworker households. The study affirms FNS's seventh strategic goal for 2018-2022: To provide all Americans access to a safe, nutritious, and secure food supply.

Need and Use of the Information: The WIC PC Study will collect updated program characteristics data from each of the 90 WIC State agencies. The data collection involves extracting data from the certification systems of each of the 90 WIC State agencies. The data files from this extraction contain two sets of data elements—the Minimum Data Set (MDS) and the Supplemental Data Set (SDS). All of the WIC State agencies are required to submit the MDS but it is optional to submit the SDS. FNS uses this data for general program monitoring as well as for managing the information needs of the program. The data is used to estimate budgets, submit civil rights reporting, identify needs for research, and review current and proposed WIC policies and procedures. FNS uses this data to produce the WIC PC reports which provide the most comprehensive and up-to-date statistics on WIC.

Description of Respondents: State, Local, or Tribal Government.

Number of Respondents: 360.

Frequency of Responses: Reporting: Biennially.

Total Burden Hours: 629.

Ruth Brown,
Departmental Information Collection Clearance Officer.

[FR Doc. 2019-18581 Filed 8-27-19; 8:45 am]

BILLING CODE 3410-30-P